NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by July 26, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-003

1. Applicant: Birgitte McDonald, Moss Landing Marine Labs, 8272 Moss Landing Rd. Moss landing, CA 95039

Activity for Which Permit is Requested: Take, Harmful Interference, Enter Antarctic Specially Protected Area, Import to USA. The applicant requests authorization to enter Antarctic Specially Protected Area (ASPA) No. 124, Cape Crozier, to conduct physiological and ecological studies on emperor penguins (Aptenodytes forsteri). The two-part project aims to address fundamental information gaps about the foraging ecology and habitat use of emperor penguins at two stages of their life history. The applicant proposes capturing up to 35 adult breeding emperor penguins as they depart colonies to forage. Penguins will be captured over 100 m away from the colony to minimize disturbance to the colony. Captured penguins will undergo morphological and physiological sampling, including blood, feathers, and guano, and will be fitted with instrumentation used for collecting foraging data. Up to five penguins will also be fitted with a video data logger. Up to 12 penguins would be measured for field metabolic rate using injected sterile doubly labeled water requiring the penguins to be corralled for up to 3.5 hours. Previous experience has show the penguins remain calm during this period. After penguins return from a foraging trip (~1-3 weeks), the would be recaptured, weighted, measured, and a blood sample collected. An additional 200 guano samples would be collected from penguins at the colony by collecting fresh guano from clean ice or snow at the periphery of the colony.

Location: ASPA 124—Cape Crozier, Ross Island.

Dates of Permitted Activities: 1 October 2024-31 May 2025.

Kimiko S. Bowens-Knox,
Program Analyst, Office of Polar Programs.

[FR Doc. 2024-13965 Filed 6-25-24; 8:45 am]

BILLING CODE 7555-01-P